DEPARTMENT OF HEALTH AND HUMAN SERVICES

National Institutes of Health

National Institute of Environmental Health Sciences; Amended Notice of Meeting

Notice is hereby given of a change in the meeting of the National Advisory Environmental Health Sciences Council, June 4, 2019, 08:30 a.m. to June 5, 2019, 12:00 p.m., National Institute of Environmental Sciences, Building 101, Rodbell Auditorium, 111 T. W. Alexander Drive, Research Triangle Park, NC 27709 which was published in the Federal Register on February 15, 2019, 4502.

This notice is being amended due to time changes in closed and open sessions. The closed session will now be held for June 4th from 1:00 p.m.-1:45 p.m. The open session for June 4th will be held from 2:00 p.m.-5:00 p.m. The open session for June 5th will be held from 8:30 a.m.-4:00 p.m., National Institute of Environmental Sciences, Building 101 Rodbell Auditorium, 111 T. W. Alexander Drive, Research Triangle Park, NC 27709. The meeting is partially closed.

Dated: May 21, 2019.
Natasha M. Copeland,
Program Analyst, Office of Federal Advisory Committee Policy.

[FR Doc. 2019-11084 Filed 5-28-19; 8:45 am]

BILLING CODE 4140-01-P